ENVIRONMENTAL PROTECTION AGENCY

[FRL-7989-5]

Starmet CMI Superfund Site; Notice of Proposed De Minimis Settlement

AGENCY: Environmental Protection Agency (EPA).

ACTION: Notice of Cost Recovery Settlement.

SUMMARY: Under section 122(g)(1) of the Comprehensive Environmental Response, Compensation and Liability Act (CERCLA), the Environmental Protection Agency has offered a cost recovery settlement at the Starmet CMI Superfund Site located in Barnwell, Barnwell County, South Carolina. EPA will consider public comment until November 28, 2005. EPA may withdraw from or modify the proposed settlement should such comments disclose facts or considerations which indicate the proposed settlement is inappropriate, improper, or inadequate. Copies of the proposed are available from: Ms. Paula V. Batchelor, U.S. Environmental Protection Agency, Waste Management Division, Superfund Enforcement & Information Management Branch, 61 Forsyth Street, SW., Atlanta, Georgia 30303, (404) 562-8890, E-mail: Batchelor.Paula@epa.gov.

Written or e-mail comments may be submitted to Paula V. Batchelor at the above address within thirty (30) days of the date of publication.

Dated: October 12, 2005.
De'Lyntoneus Moore,
Acting Chief, Superfund Enforcement & Information Management Branch, Waste Management Division.

[FR Doc. 05-21460 Filed 10-26-05; 8:45 am]

BILLING CODE 6560-50-P